DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than April 5, 2021.

Interested persons are invited to submit written comments regarding the subject matter of the investigations to the Administrator, Office of Trade Adjustment Assistance, at the address shown below, not later than April 5, 2021.

The petitions filed in this case are available for inspection at the Office of the Administrator, Office of Trade Adjustment Assistance, Employment and Training Administration, U.S. Department of Labor, Room N-5428, 200 Constitution Avenue NW, Washington, DC 20210.

Signed at Washington, DC, this 7th day of March 2021.
Hope D. Kinglock,
Certifying Officer, Office of Trade Adjustment Assistance.

Appendix

60 TAA Petitions Instituted Between 2/1/21 and 2/28/21
TA-W | Subject firm (petitioners) | Location | Date of institution | Date of petition
96694 | Liberty Iron and Metal, Inc. (Union Official) | Erie, PA | 01-Feb-2021 | 29-Jan-2021.
96695 | Grass Valley USA LLC (State Official) | Grass Valley, CA | 01-Feb-2021 | 29-Jan-2021.
96696 | Keihin Michigan Manufacturing, LLC (State Official) | Mussey, MI | 01-Feb-2021 | 29-Jan-2021.
96697 | ABB (Company Official) | Kings Mountain, NC | 02-Feb-2021 | 01-Feb-2021.
96698 | Gannett, Inc. (State Official) | Des Moines, IA | 02-Feb-2021 | 01-Feb-2021.
96699 | Godiva Chocolatier (American Job Center) | Saint Louis, MO | 02-Feb-2021 | 01-Feb-2021.
96700 | Victoria's Secret Stores Brand Management, LLC (State Official) | New York, NY | 02-Feb-2021 | 01-Feb-2021.
96701 | Joy Global Underground Mining LLC (State Official) | Bluefield, VA | 02-Feb-2021 | 01-Feb-2021.
96702 | TESCOM (State Official) | Elk River, MN | 03-Feb-2021 | 02-Feb-2021.
96703 | HCL America (State Official) | Tigard, OR | 03-Feb-2021 | 02-Feb-2021.
96704 | Houston Foam Plastics Inc. (State Official) | El Paso, TX | 03-Feb-2021 | 02-Feb-2021.
96705 | NCR (State Official) | Rogers, AR | 04-Feb-2021 | 03-Feb-2021.
96706 | Betsy & Adam Ltd. (Company Official) | New York, NY | 04-Feb-2021 | 19-Jan-2021.
96707 | Parker Hannifin Hydraulic Systems Division (State Official) | Kalamazoo, MI | 04-Feb-2021 | 03-Feb-2021.
96708 | United States Steel Corporation (State Official) | Boyers, PA | 04-Feb-2021 | 01-Feb-2021.
96709 | Concentrix CVG Customer Management Group Inc. (State Official) | Pueblo, CO | 08-Feb-2021 | 05-Feb-2021.
96710 | Boomerang Tube, Inc. (State Official) | Liberty, TX | 08-Feb-2021 | 05-Feb-2021.
96711 | GMCH Kokomo Assembly (State Official) | Kokomo, IN | 08-Feb-2021 | 05-Feb-2021.
96712 | Mitsubishi Heavy Industries Climate Control, Inc. (State Official) | Franklin, IN | 08-Feb-2021 | 05-Feb-2021.
96713 | Simple Finance Technology Corporation (State Official) | Portland, OR | 09-Feb-2021 | 08-Feb-2021.
96714 | TE Connectivity (Company Official) | Campbell, CA | 09-Feb-2021 | 08-Feb-2021.
96715 | TE Connectivity (Company Official) | San Jose, CA | 09-Feb-2021 | 08-Feb-2021.
96716 | Nidec Motor Corporation (State Official) | Paragould, AR | 09-Feb-2021 | 08-Feb-2021.
96717 | Comprehensive Decommissioning International (Company Official) | Plymouth, MA | 10-Feb-2021 | 09-Feb-2021.
96718 | Medtronic Plc (Company Official) | Haltom City, TX | 10-Feb-2021 | 09-Feb-2021.
96719 | Eaton Corporation (Company Official) | Eastanollee, GA | 10-Feb-2021 | 09-Feb-2021.
96720 | Capgemini America Inc. (State Official) | Rosemont, IL | 11-Feb-2021 | 10-Feb-2021.
96721 | EVRAZ Oregon Steel (State Official) | Portland, OR | 15-Feb-2021 | 10-Feb-2021.
96722 | Eaton Corporation (Company Official) | Watertown, WI | 12-Feb-2021 | 11-Feb-2021.
96723 | West Penn Wire (Company Official) | Washington, PA | 12-Feb-2021 | 11-Feb-2021.
96724 | Key Automotive of Florida, LLC d/b/a Joyson Safety Systems (America Job Center) | Lakeland, FL | 12-Feb-2021 | 11-Feb-2021.
96725 | Siemens Energy, Inc. (State Official) | Houston, TX | 12-Feb-2021 | 11-Feb-2021.
96726 | Zimmer, Inc. and Zimmer US, Inc. (State Official) | Warsaw, IN | 12-Feb-2021 | 12-Feb-2021.
96727 | Glenmoor Company (Company Official) | Harrison, OH | 16-Feb-2021 | 16-Feb-2021.
96728 | G-lll Leather Fashions INC (Company Official) | New York, NY | 16-Feb-2021 | 30-Jan-2021.
96729 | ABB (Worker) | West Burlington, IA | 16-Feb-2021 | 12-Feb-2021.
96730 | Philips (Company Official) | Mount Pleasant, PA | 16-Feb-2021 | 15-Feb-2021.
96731 | Parker Hannifin (State Official) | Tell City, IN | 16-Feb-2021 | 15-Feb-2021.
96732 | Breg, Inc. (Company Official) | Grand Prairie, TX | 16-Feb-2021 | 13-Feb-2021.
96733 | 3M Technical Ceramics, Inc. (Formerly Ceradyne Inc.) (Worker) | Lexington, KY | 17-Feb-2021 | 16-Feb-2021.
96734 | Medtronic (State Official) | Boulder, CO | 18-Feb-2021 | 17-Feb-2021.
96735 | Lear Jet Bombardier (State Official) | Wichita, KS | 18-Feb-2021 | 17-Feb-2021.
96736 | Ricoh Electronics Inc. (State Official) | Tustin, CA | 18-Feb-2021 | 17-Feb-2021.
96737 | Philips Healthcare (State Official) | Gainesville, FL | 18-Feb-2021 | 17-Feb-2021.
96738 | Elementis Global LLC (Union Official) | South Charleston, WV | 18-Feb-2021 | 10-Feb-2021.
96739 | Versum Materials LLC (Worker) | Allentown, PA | 19-Feb-2021 | 18-Feb-2021.
96740 | Savant Systems, Inc. (Union Official) | Cleveland, OH | 22-Feb-2021 | 19-Feb-2021.
96741 | Eaton Corporation (Company Official) | Pewaukee, WI | 22-Feb-2021 | 19-Feb-2021.
96742 | Honeywell Aerospace (State Official) | South Bend, IN | 22-Feb-2021 | 22-Feb-2021.
96743 | Standard Insurance Company (State Official) | Portland, OR | 23-Feb-2021 | 22-Feb-2021.
96744 | Panasonic Avionics Corporation (State Official) | Bothell, WA | 23-Feb-2021 | 16-Feb-2021.
96745 | EFCO Corporation (State Official) | Springfield, MS | 23-Feb-2021 | 22-Feb-2021.
96746 | Ascension Technologies (State Official) | Troy, MI | 24-Feb-2021 | 23-Feb-2021.
96747 | Pierce Pacific Manufacturing Inc. (State Official) | Portland, OR | 25-Feb-2021 | 24-Feb-2021.
96748 | Kerry (State Official) | Fredericksburg, IA | 25-Feb-2021 | 24-Feb-2021.
96749 | Selmet, Inc. a CPP Company (State Official) | Albany, OR | 25-Feb-2021 | 24-Feb-2021.
96750 | Emerald Performance Materials (State Official) | Henry, IL | 25-Feb-2021 | 24-Feb-2021.
96751 | Flexitech, Inc. (Company Official) | Bloomington, IL | 25-Feb-2021 | 25-Feb-2021.
96752 | Microtechnologies (State Official) | Hicksville, NY | 26-Feb-2021 | 25-Feb-2021.
96753 | Baylor Scott & White Health (State Official) | Dallas, TX | 26-Feb-2021 | 25-Feb-2021.

[FR Doc. 2021-06035 Filed 3-23-21; 8:45 am]

BILLING CODE P